DEPARTMENT OF ENERGY

Federal Energy Regulatory Commission

[Project No. 2157-167]

Public Utility District No. 1 of Snohomish County, Washington City of Everett, WA; Notice Dismissing Motion To Intervene

February 17, 2009.

On December 1, 2005, in Project No. 2157-167, Public Utility District No. 1 of Snohomish County, Washington (Snohomish PUD) and the City of Everett (Everett) filed a Notice of Intent to File a License Application and a Pre-Application Document (PAD) under the Commission's integrated licensing process (ILP) for the Henry M. Jackson Project. On February 6, 2009, Snohomish County filed a motion to intervene in this proceeding.

Pursuant to Rule 214(a)(3) of the Commission's Rules of Practice and Procedure, any person may seek to intervene and become a party in a proceeding by filing a motion to intervene that complies with the content requirements of Rule 214(b).¹ However, a motion to intervene in the ILP at the pre-application stage is not appropriate. Because Snohomish PUD and Everett have not yet filed a license application, there is no proceeding in which to intervene, and consequently the motion to intervene in Project No. 2157-167 is dismissed as premature. Should Snohomish PUD and Everett file a license application, the Commission will then provide an opportunity for intervention.²

¹ 18 CFR 385.214 (2008).

² 18 CFR 5.1 et seq. (2008). To receive all filings in a docket, interested parties are encouraged to utilize the Commission's e-Subscription service, which can be accessed at http://www.ferc.gov/docs-filing/esubscription.asp.

This notice constitutes final agency action. Requests for rehearing of this notice may be filed within 30 days of the date of issuance of this notice, pursuant to Rule 713 of the Commission's Rules of Practice and Procedure.³

³ 18 CFR 385.713 (2008).

Kimberly D. Bose,
Secretary.

[FR Doc. E9-3855 Filed 2-23-09; 8:45 am]

BILLING CODE 6717-01-P